DEPARTMENT OF COMMERCE

International Trade Administration

19 CFR Part 356

[Docket No. 241206-0314]

RIN 0625-AB20

Procedures and Rules for Article 10.12 of the United States-Mexico-Canada Agreement; Correction

AGENCY: Enforcement and Compliance, International Trade Administration, Department of Commerce.

ACTION: Rule; correction.

SUMMARY: On January 31, 2024, the Department of Commerce (Commerce) updated and made final an interim final rule that amended its regulations pertaining to the procedures and rules related to Article 1904 of the North American Free Trade Agreement (NAFTA) with appropriate references to the United States-Mexico-Canada Agreement (USMCA), which went into effect on July 1, 2020. This rule is correcting language in the regulations which was erroneously duplicated.

DATES: Effective December 12, 2024.

FOR FURTHER INFORMATION CONTACT: Scott D. McBride, Associate Deputy Chief Counsel, at (202) 482-6292 or Spencer Neff, Senior Attorney, at (202) 482-8184.

SUPPLEMENTARY INFORMATION: On January 31, 2024, the Department of Commerce published a final rule amending its regulations pertaining to the procedures and rules related to Article 1904 of the North American Free Trade Agreement (NAFTA) with appropriate references to the United States-Mexico-Canada Agreement (USMCA), which went into effect on July 1, 2020 (89 FR 6011). The final rule erroneously duplicated language in 19 CFR 356.8(b)(2) from § 356.8(b)(1). This amendment corrects § 356.8(b)(2).

List of Subjects in 19 CFR Part 356

Administrative practice and procedure, Antidumping, Business and industry, Confidential business information, Countervailing duties, Imports.

Dated: December 6, 2024.
Ryan Majerus,
Deputy Assistant Secretary for Policy and Negotiations, performing the non-exclusive functions and duties of the Assistant Secretary for Enforcement and Compliance.

Accordingly, 19 CFR part 356 is corrected by making the following correcting amendment:

PART 356—PROCEDURES AND RULES FOR ARTICLE 10.12 OF THE UNITED STATES-MEXICO-CANADA AGREEMENT

1. The authority citation for part 356 continues to read as follows:

Authority: 19 U.S.C. 1516a and 1677f(f), unless otherwise noted.

2. In § 356.8, revise paragraph (b)(2) to read as follows:

§ 356.8 Continued suspension of liquidation.

* * * * *

(b) * * *

(2) A participant in a binational panel review that was a party to the proceeding, as described in section 771(9)(A) of the Act (19 U.S.C. 1677(9)(A)), may request continued suspension of liquidation of the merchandise which it manufactured, produced, exported, or imported and which is covered by the administrative determination under review by the panel. Foreign governments are not listed as interested parties who may request the continuation of suspension under 19 U.S.C. 1516a(g)(5)(C)(iii).

* * * * *

[FR Doc. 2024-29091 Filed 12-11-24; 8:45 am]

BILLING CODE 3510-DS-P